DEPARTMENT OF COMMERCE

Foreign-Trade Zones Board

[Docket 1-2009]

Foreign-Trade Zone 79—Tampa, FL Request for Manufacturing Authority Tampa Bay Shipbuilding and Repair Company (Shipbuilding)

An application has been submitted to the Foreign-Trade Zones Board (the Board) by the City of Tampa, grantee of FTZ 79, pursuant to Section 400.28(a)(2) of the Board's regulations (15 CFR Part 400), requesting authority on behalf of Tampa Bay Shipbuilding and Repair Company (TBSRC) to construct and repair oceangoing vessels under FTZ procedures within FTZ 79. It was formally filed on January 23, 2009.

On May 29, 2008, temporary/interim manufacturing authority was approved for the TBSRC facility (Docket T-1-2008, Notice of Approval—73 FR 31813, 6-4-2008). The applicant has also requested permanent authority on behalf of TBSRC, which is the subject of this notice.

The TBSRC shipyard (852 employees, capacity: 1 vessel/year) is located at 1130 McCloskey Boulevard within the Hooker's Point Terminal Complex (Site 5). Under FTZ procedures, TBSRC would construct and repair double-hulled liquid barges and articulating tug barges, cruise ships, ferries, fishing boats, tug boats, dredgers, offshore production platforms, and floating docks for domestic and international customers. Foreign components that would be used at the shipyard (up to 5% of total purchases, by value) include: Diesel engines and parts, turbochargers, stern tubes, anchor chain, aluminum beams, flexible tubing, pumps, heat exchange/cooling units, centrifuges, filters, fire suppression equipment, rudders, bow thrusters, valves, reduction gears, transmission shaft grounding systems and seals, generators and parts, transformers, propellers, speed drive and similar controllers, overfill alarms, automated/steering systems, safety netting (will be admitted in domestic (duty-paid) status), liquid flow measurement instruments, doors, electrical equipment, and deck equipment (duty rates: free—14.1%).

FTZ procedures would exempt TBSRC from customs duty payments on the foreign components used in export activity. On its domestic sales, the company could be able to choose the duty rate that applies to finished oceangoing vessels (duty free) for the foreign-origin components noted above. Duties could possibly be deferred or reduced on foreign status production equipment admitted by TBSRC to the zone. The manufacturing and repair activity conducted under FTZ procedures would be subject to the “standard shipyard restriction” applicable to foreign-origin steel mill products (e.g., angles, pipe, plate), which requires that all applicable customs duties be paid on such items. The application indicates that the savings from FTZ procedures would help improve the facility's international competitiveness.

In accordance with the Board's regulations, Pierre Duy of the FTZ Staff is designated examiner to investigate the application and report to the Board. Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is April 6, 2009. Rebuttal comments in response to material submitted during the foregoing period may be submitted during the subsequent 15-day period to April 20, 2009.

A copy of the application will be available for public inspection at the Office of the Foreign-Trade Zones Board's Executive Secretary at the address listed above and in the “Reading Room” section of the Board's Web site, which is accessible via http://www.trade.gov/ftz. For further information, contact Pierre Duy at: pierre_duy@ita.doc.gov, or (202) 482-1378.

Dated: 1/23/09.
Andrew McGilvray,
Executive Secretary.

[FR Doc. E9-2082 Filed 2-3-09; 8:45 am]

BILLING CODE 3510-DS-P